ENVIRONMENTAL PROTECTION AGENCY

40 CFR Part 52

[EPA-R03-OAR-2014-0310; FRL-9913-30-Region 3]

Approval and Promulgation of Air Quality Implementation Plans; Maryland; Low Emission Vehicle Program

AGENCY: Environmental Protection Agency (EPA).

ACTION: Direct final rule.

SUMMARY: The Environmental Protection Agency (EPA) is approving a State Implementation Plan (SIP) revision submitted by the State of Maryland. This revision pertains to Maryland's incorporation by reference of the most recent amendments to California's Low Emission Vehicle (LEV) program. The Clean Air Act (CAA) contains authority by which other states may adopt new motor vehicle emissions standards that are identical to California's standards. Maryland has adopted by reference California's light and medium-duty vehicle emissions and fuel standards, and consistent with California, submits amendments to these standards as revisions to the State's SIP. In this SIP revision, Maryland is updating its Low Emissions Vehicle Program regulation to adopt by reference California's Advanced Clean Car Program. This action is being taken under the CAA.

DATES: This rule is effective on September 8, 2014 without further notice, unless EPA receives adverse written comment by August 8, 2014. If EPA receives such comments, it will publish a timely withdrawal of the direct final rule in the Federal Register and inform the public that the rule will not take effect.

ADDRESSES: Submit your comments, identified by Docket ID Number EPA-R03-OAR-2014-0310 by one of the following methods:

A. www.regulations.gov. Follow the on-line instructions for submitting comments.

B. Email: Fernandez.cristina@epa.gov.

C. Mail: EPA-R03-OAR-2014-0310, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2014-0310. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Emlyn Vélez-Rosa (215) 814-2038, or by email at velez-rosa.emlyn@epa.gov.

SUPPLEMENTARY INFORMATION: On August 1, 2013, the Maryland Department of the Environment (MDE) submitted a revision to its SIP amending Maryland's Low Emissions Vehicle Program regulation, COMAR 26.11.34, to adopt California's Advanced Clean Cars Program, also referred to as the CA LEV III program. The Maryland Low Emissions Vehicle Program requires all new 2011 and subsequent model year passenger cars, light trucks, and medium-duty vehicles having a gross vehicle weight rating (GVWR) of 14,000 pounds or less that are sold in Maryland to meet California's vehicle standards.

Table of Contents

I. Background

A. Maryland's Air Quality With Respect to the Ozone National Ambient Air Quality Standard (NAAQS)

B. Federal Vehicle Standards

C. California's Vehicle Standards

D. Maryland's Low Emissions Vehicle Program

II. Summary of SIP Revision

III. Final Action

IV. Statutory and Executive Order Reviews

I. Background

A. Maryland's Air Quality With Respect to the Ozone National Ambient Air Quality Standard (NAAQS)

Ozone is formed in the atmosphere by photochemical reactions between volatile organic compounds (VOCs), nitrogen oxides (NOX), and carbon monoxide (CO) in the presence of sunlight. In order to reduce ozone concentrations in the ambient air, the CAA requires all nonattainment areas to apply controls on VOCs and NOX emission sources to achieve emission reductions.

On July 18, 1997 (62 FR 38856), EPA promulgated an 8-hour ozone NAAQS, at 0.08 parts per million (ppm) averaged over an 8-hour time frame. On April 30, 2004 (69 FR 23951), EPA finalized designations for areas across the country with respect to the 1997 8-hour ozone NAAQS, which became effective on June 15, 2004. In this rulemaking action, EPA designated for the 1997 8-hour ozone NAAQS three separate nonattainment areas containing eleven counties and the City of Baltimore in Maryland: (1) The Baltimore, Maryland moderate nonattainment area (hereafter the Baltimore Area), consisting of the counties of Ann Arundel, Baltimore, Carroll, Harford, and Howard, and the City of Baltimore in Maryland; (2) the Washington, DC-MD-VA moderate nonattainment area (hereafter the Washington Area), whose Maryland's portion consists of the counties of Calvert, Charles, Frederick, Montgomery, and Prince George's; and (3) the Philadelphia-Wilmington-Atlantic City, PA-NJ-MD-DE moderate nonattainment area (hereafter the Philadelphia Area), whose Maryland's portion consists of Cecil County. See 40 CFR 81.321. Upon designation, these 1997 8-hour ozone moderate nonattainment areas had an attainment date of no later than June 15, 2010.

Two of Maryland's ozone nonattainment areas have attained the 1997 8-hour ozone NAAQS. On February 28, 2012 (77 FR 11739), EPA determined that the Washington Area attained the 1997 8-hour ozone NAAQS by its June 15, 2010 attainment date. On January 21, 2011 (76 FR 3840), EPA issued a 1-year attainment date extension (i.e., from June 15, 2010 to June 15 2011) for the Philadelphia Area. On March 26, 2012 (77 FR 17341), EPA determined that the Philadelphia Area attained the 1997 8-hour ozone NAAQS by its June 15, 2011 attainment date.

On March 11, 2011 (76 FR 13289), EPA issued a 1-year attainment date extension (i.e., from June 15, 2010 to June 15, 2011) for the Baltimore Area. On February 1, 2012 (77 FR 4901), EPA made a determination that the Baltimore Area did not attain the 1997 8-hour ozone NAAQS by its June 15, 2011 attainment date, based on quality assured, quality controlled, and certified ambient air monitoring data for 2008-2010. As a result, in this same rulemaking action EPA reclassified the Baltimore Area from moderate to serious nonattainment for the 1997 8-hour ozone NAAQS.

On March 27, 2008 (73 FR 16436), EPA revised the level of the 8-hour ozone NAAQS from 0.08 ppm to 0.075 ppm. EPA also strengthened the secondary 8-hour ozone standard to the level of 0.075 ppm making it identical to the revised primary standard. On May 21, 2012 (77 FR 30088), EPA finalized designations for the 2008 8-hour ozone NAAQS, that became effective on July 20, 2012. The 2008 8-hour ozone designations included the same three nonattainment areas previously designated for the 1997 8-hour ozone NAAQS, but with different classifications. The Washington Area and the Philadelphia-Wilmington-Atlantic City Area were classified as marginal nonattainment and the Baltimore Area was classified as moderate nonattainment.

B. Federal Vehicle Standards

Vehicles sold in the United States are required by the CAA to be certified to meet the Federal emission standards or California's emission standards. States are forbidden from adopting their own standards, but may adopt California's emission standards for which EPA has granted a waiver of preemption. Specifically, section 209 of the CAA prohibits states from adopting or enforcing standards relating to the control of emissions from new motor vehicles or new motor vehicle engines. However, EPA may waive that prohibition to any state that adopted its own vehicle emission standards prior to March 30, 1966. As California was the only state to do so, California has authority under the CAA to adopt its own motor vehicle emissions standards. California must demonstrate to EPA that its newly adopted standards will be “. . . in the aggregate, at least as protective of public health and welfare as applicable Federal standards.” EPA then must grant a waiver of preemption for California's standards, unless the demonstration fails to meet specific requirements set forth in section 209 of the CAA applicable to such a waiver demonstration.

Section 177 of the CAA authorizes other states to adopt California's standards in lieu of Federal vehicle standards, provided the state adopting California's standards does so at least two years prior to the model year in which they become effective and that EPA has issued a waiver of preemption to California for such standards. California emission standards have been traditionally more stringent than the EPA requirements, but their structure is similar to that of the Federal programs.

On February 10, 2000 (65 FR 6698), EPA adopted the second tier of Federal motor vehicle standards (Federal Tier 2 standards) enacted under the CAA. The Federal Tier 2 standards included tailpipe emissions standards for passenger vehicles and light duty trucks and gasoline sulfur standards. The standards were phased-in between the 2004 and 2007 model years, except in states that had formally adopted California's emission standards in lieu of the Federal standards.

On May 7, 2010 (75 FR 25324), EPA and the National Highway Traffic Safety Administration (NHTSA), an agency under the Department of Transportation (DOT), established a national program consisting of new standards for light-duty motor vehicles to reduce greenhouse gases (GHG) emissions and to improve fuel economy. This program affected new passenger cars, light-duty trucks, and medium-duty passenger vehicles sold in model years 2012 through 2016. EPA adopted the GHG emissions standards under the CAA, while NHTSA, as part of DOT, adopted standards related to fuel economy, the Corporate Average Fuel Economy (CAFE) standards, under the Energy Policy and Conservation Act (EPCA). Under this national program, adopted in coordination with California, automobile manufacturers face a single set of national emissions standards to meet both Federal and California emissions requirements.

On October 15, 2012 (77 FR 62624), EPA and NHTSA issued a joint final rule to further reduce GHG emissions and improve fuel economy for light-duty vehicles for model years 2017 and beyond. This rule extended the previous national program beyond 2016 by tightening GHG for model years 2017 to 2025 and the CAFE standards between model years 2017 and 2021. The rule continued to apply to passenger cars, light-duty trucks, and medium-duty passenger vehicles sold in the applicable model years.

EPA's GHG standards are based on carbon dioxide (CO2) emissions-footprint curves, where each vehicle has a different CO2 emissions compliance target depending on its footprint value (related to the size of the vehicle). Generally, the larger the vehicle footprint, the higher the corresponding vehicle CO2 emissions target. As a result, the burden of compliance was distributed across all vehicles and all manufacturers. The CAFE program required vehicle manufacturers to comply with the gas mileage, or fuel economy, standards set by the DOT.

On March 3, 2014, EPA signed a final rule adopting Tier 3 Motor Vehicle Emission and Fuel Standards. The Federal Tier 3 program establishes more stringent Federal vehicle emissions standards and lowers the sulfur content of gasoline for new cars in states subject to the Federal program, beginning in model year 2017. The Federal Tier 3 vehicle program will reduce both tailpipe and evaporative emissions from passenger cars, light-duty trucks, medium-duty passenger vehicles, and some heavy-duty vehicles. The gasoline sulfur standard will enable more stringent vehicle emissions standards and will make emissions control systems more effective. The tailpipe standards include different phase-in schedules that vary by vehicle class but generally phase in between model years 2017 and 2025. The Tier 3 standards are closely harmonized with California LEV Tier III standards as well as with Federal and California GHG emission standards for light-duty vehicles.

C. California's Vehicle Standards

In 1990, California's Air Resources Board (CARB) adopted its first generation of LEV standards applicable to light and medium duty vehicles. California's vehicle emission standards program is referred to as the California Low Emissions Vehicle Program (CA LEV program). These LEV standards were phased-in beginning in model year 1994 through model year 2003. In 1999, California adopted a second generation of CA LEV standards, known as CA LEV II. CA LEV II was phased-in beginning with model year 2004 through model year 2010. EPA granted a Federal preemption waiver for CA LEV II program on April 22, 2003 (68 FR 19811).

In December 2000, CARB modified the CA LEV II program to take advantage of some elements of the Federal Tier 2 regulations to ensure that only the cleanest vehicle models would continue to be sold in California. In 2006, CARB adopted technical amendments to its CA LEV II program that amended the evaporative emission test procedures, onboard refueling vapor recovery and spitback test procedures, exhaust emission test procedures, and vehicle emission control label requirements. These technical amendments aligned each of California's test procedures and label requirements with its Federal counterpart, in an effort to streamline and harmonize the California and Federal Tier 2 programs and to reduce manufacturer testing burdens and increase in-use compliance. On July 30, 2010 (75 FR 44948), EPA published a Federal Register notice confirming that CARB's 2006 technical amendments were within-the-scope of existing waivers of preemption for the CA LEV II program.

The CA LEV II program reduces emissions in a similar manner to the Federal Tier 2 program by use of declining fleet average non-methane organic gas (NMOG) emission standards, applicable to each vehicle manufacturer each year. Separate fleet average standards are not established for NOX, CO, particulate matter (PM), or formaldehyde as these emissions are controlled as a co-benefit of the NMOG fleet average (fleet average values for these pollutants are set by the certification standards for each set of California prescribed certification standards.) These allowable sets of standards range from LEV standards (the least stringent standard set) to Zero Emission Vehicle (ZEV) standards (the most stringent standard set). In between, the CA LEV II program establishes various other standards: The Ultra-Low Emission Vehicles (ULEV), Super-Ultra Low Emission Vehicles (SULEV), Partial Zero Emission Vehicles (PZEV), and Advanced Technology-Partial Zero Emission Vehicles (AT-PZEV). Each manufacturer may comply by selling a mix of vehicles meeting any of these standards, as long as their sales-weighted, overall average of the various standard sets meets the overall fleet average and ZEV requirements.

In January 2012, California approved a new emissions-control program for model years 2017 through 2025, called the Advanced Clean Cars Program, or the CA LEV III program. The program combines the control of smog, soot, and GHG and requirements for greater numbers of ZEV vehicles into a single package of standards. The regulations apply to light duty vehicles, light duty trucks, and medium duty passenger vehicles. Under the Advanced Clean Cars Program, manufacturers can certify vehicles to the standards before model year 2015. Beginning with model year 2020, all vehicles must be certified to CA LEV III standards. The ZEV amendments add flexibility to California's existing ZEV program for 2017 and earlier model years, and establish new sales and technology requirements starting with the 2018 model year. The CA LEV III amendments establish more stringent criteria and GHG emission standards starting with the 2015 and 2017 model years, respectively. The California GHG standards are almost identical in stringency and structure to the Federal GHG standards for model years from 2017 to 2025. Additionally, on December 2012, California adopted a “deemed to comply” regulation that enables manufacturers to show compliance with California GHG standards by demonstrating compliance with Federal GHG standards. On June 9, 2013 (78 FR 2112), EPA granted a Federal preemption waiver for California's Advanced Clean Cars Program. California's LEV Program is contained in the California Code of Regulations (CCR), Title 13 “Motor Vehicles,” Division 3 “Air Resources Board.”

D. Maryland's Low Emissions Vehicle Program

In order to address ambient air quality in the State, Maryland's legislature adopted and the Governor signed the Maryland Clean Cars Act of 2007, the purpose of which was to implement California's motor vehicle emission standards. This statute compelled the adoption by MDE on November 19, 2007 of a rule to implement CA LEV II standards. This rule established Maryland regulatory chapter COMAR 26.11.34, entitled “Low Emission Vehicle Program” (also referred to as Maryland Clean Car Program), which became effective in Maryland on December 17, 2007. Since originally adopted, Maryland has revised its LEV program in 2009 and 2011 to reflect updates by California to the CA LEV II program. Maryland submitted these changes to EPA as SIP revisions, which EPA approved into Maryland's SIP. See 78 FR 34911 (June 11, 2013).

The Maryland Clean Car Program has two objectives. The first is to reduce emissions of NOX and VOCs, as precursors of ground level ozone, from new motor vehicles sold in Maryland. The second objective of the program is to reduce GHG emissions from motor vehicles. The Maryland Clean Car Program requires all 2011 and newer model year passenger cars, light-duty trucks, and medium-duty vehicles having a GVWR of 14,000 pounds or less that are sold as new cars or are transferred in Maryland to meet the applicable California emissions standards. For purposes of the Maryland Clean Car Program, transfer means to sell, import, deliver, purchase, lease, rent, acquire, or receive a motor vehicle for titling or registration in Maryland.

II. Summary of SIP Revision

Since Maryland last adopted California's vehicle standards in 2011, California has updated its rules to adopt its Advanced Clean Cars Program. As mentioned previously, on June 9, 2013 (78 FR 2112), EPA granted a Federal preemption waiver for California's Advanced Clean Cars Program. Maryland adopted California's updates to portions of CCR Title 13, Division 3 by amending COMAR 26.11.34.02 on February 6, 2013 (40:4 Md R. 347), as proposed on November 30, 2012 (39:24 Md. R. 1587-1590). These amendments became state-effective on March 4, 2013.

On August 1, 2013, Maryland submitted as a SIP revision the state-adopted amendments to the Maryland LEV Program rule, with exception of CCR, Title 13, Division 3, Section 2030 “Liquefied Petroleum Gas or Natural Gas Retrofit Systems,” effective on February 13, 2010. The purpose of this SIP revision is for Maryland to update its incorporation by reference provisions, under COMAR 26.11.34.02, to adopt the CA LEV III program. This SIP revision will replace in its entirety the existing regulation COMAR 26.11.34.02 as approved in the SIP on June 11, 2013. See 78 FR 34911. A list of California's regulations being incorporated by reference is included as part of Maryland's notice of proposed action dated November 30, 2012 (39:24 Md. R. 1587-1590), which is included in the State submittal and available online at www.regulations.gov, Docket ID No. EPA-R03-OAR-2014-0310.

The proposed SIP revision includes Maryland's revised Clean Car Program rules that adopt by reference California's Advanced Clean Car Program approved by CARB in 2012. These amendments are important for purposes of making sure Maryland's rules are consistent with those of California, and thus in compliance with Maryland's requirement under section 177 of the CAA.

As explained earlier, the California Advanced Clean Cars Program includes changes to CA LEV II, GHG, and ZEV standards, all of which have been adopted by Maryland. The California Advanced Clean Cars Program regulates criteria pollutants, and requires that all new 2017 and subsequent model year vehicles transferred (including titled and registered) in the State of Maryland be certified to meet the new California emission standards. The CA LEV III emission standards will be phased-in from 2017-2025. Maryland's update to its Clean Car Program will result in a further reduction of ozone precursors emissions of NOX and VOCs, as well as air toxic and GHG emissions beyond the State's current, SIP-approved program.

III. Final Action

EPA is approving a SIP revision submitted by Maryland on August 1, 2013. The SIP revision amends the Maryland Low Emission Vehicle Program, in regulation COMAR 26.11.34.02, to incorporate by reference California's Advanced Clean Car Program. Maryland's adoption of California's vehicle standards is authorized by section 177 of the CAA, and will ensure that Maryland's Low Emission Vehicle Program continues to be the same as California's Low Emission Vehicle program. EPA is publishing this rule without prior proposal because EPA views this as a noncontroversial amendment and anticipates no adverse comment. However, in the “Proposed Rules” section of today's Federal Register, EPA is publishing a separate document that will serve as the proposal to approve the SIP revision if adverse comments are filed. This rule will be effective on September 8, 2014, without further notice unless EPA receives adverse comment by August 8, 2014. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by September 8, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking action. This rulemaking action to revise the Maryland Low Emissions Vehicle Program may not be challenged later in proceedings to enforce its requirements. (See section 307(b)(2).)

List of Subjects in 40 CFR Part 52

Environmental protection, Air pollution control, Carbon monoxide, Incorporation by reference, Intergovernmental relations, Nitrogen dioxide, Ozone, Reporting and recordkeeping requirements, Volatile organic compounds.

Authority: 42 U.S.C. 7401 et seq.

Dated: June 13, 2014.
W.C. Early,
Acting Regional Administrator, Region III.

40 CFR part 52 is amended as follows:

PART 52—APPROVAL AND PROMULGATION OF IMPLEMENTATION PLANS

1. The authority citation for part 52 continues to read as follows:

Authority: 42 U.S.C. 7401 et seq.

Subpart V—Maryland

2. In § 52.1070, the table in paragraph (c) is amended by revising the entry for COMAR 26.11.34.02. to read as follows:

§ 52.1070 Identification of plan.

* * * * *

(c) * * *

EPA-Approved Regulations, Technical Memoranda, and Statutes in the Maryland SIP
Code of Maryland Administrative Regulations (COMAR) citation | Title/subject | State effective date | EPA approval date | Additional explanation/citation at 40 CFR 52.1100
* * * * * * *
26.11.34 Low Emissions Vehicle Program
* * * * * * *
26.11.34.02 with exception | Incorporation by Reference | 03/04/13 | 07/09/14 [Insert Federal Register citation] | Update to incorporate by reference California's Advanced Clean Car Program rules, with exception of Title 13, California Code of Regulations (CCR), Division 3, Chapter 2, Article 5, § 2030.
* * * * * * *

* * * * *

[FR Doc. 2014-15886 Filed 7-8-14; 8:45 am]

BILLING CODE 6560-50-P